DEPARTMENT OF HEALTH AND HUMAN SERVICES

Centers for Disease Control and Prevention

[30Day-24-0900]

Agency Forms Undergoing Paperwork Reduction Act Review

In accordance with the Paperwork Reduction Act of 1995, the Centers for Disease Control and Prevention (CDC) has submitted the information collection request titled “Contact Investigation Outcome Reporting Forms” to the Office of Management and Budget (OMB) for review and approval. CDC previously published a “Proposed Data Collection Submitted for Public Comment and Recommendations” notice on June 4, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Contact Investigation Outcome Reporting Forms (OMB Control No. 0920-0900, Exp. 8/31/2024)—Revision—National Center for Emerging and Zoonotic Infectious Diseases (NCEZID), Centers for Disease Control and Prevention (CDC).

Background and Brief Description

The goal of this information collection is to obtain sufficient information on the results of contact investigations carried out by state, local, and territorial public health professionals or maritime medical crews to assess the impact of a confirmed communicable disease of public health concern in a traveler, both in terms of further transmission of disease and health outcomes for cases and contacts. This data collection will also determine if further public health intervention is appropriate.

CDC sends an outcome reporting form to state, local, and territorial health departments and maritime operators when an individual with a communicable disease is reported and there is sufficient evidence to suggest that the individual was infectious during travel and/or potentially posed a public health risk to other travelers on the same conveyance. The reporting forms record information about the exposed traveler's location and activities on air or maritime conveyance or land border crossing, other potential exposures, signs/symptoms that may have occurred after their potential exposure, prior history of vaccination or disease, and other medical conditions that could influence the risk of infection or severity of illness. CDC has adjusted the burden to account for changes after the COVID-19 pandemic. Minor adjustments were also made to some forms to improve clarity, readability, and public health relevance of the data collected; these changes are not expected to affect reporting burden.

CDC requests OMB approval for an estimated 33 annualized burden hours. There are no costs to respondents other than their time to participate.

Estimated Annualized Burden Hours
Type of respondents | Form name | Number of respondents | Number of responses per respondent | Average burden per response (in hours)
Cruise Ship Physicians/Cargo Ship Managers | TB Maritime Contact Investigation Worksheet | 17 | 1 | 10/60
Cruise Ship Physicians | Varicella Outbreak Enhanced Data Collection Form—Maritime | 74 | 1 | 10/60
Cruise Ship Physicians | Influenza Outbreak Enhanced Data Collection Form—Maritime | 10 | 1 | 10/60
State/Local/Territorial public health staff | General Contact Investigation Outcome Reporting Form—Air | 8 | 1 | 5/60
State/Local/Territorial public health staff | TB Aircraft Contact Investigation Outcome Reporting Form | 51 | 1 | 10/60
State/Local/Territorial public health staff | Measles Contact Investigation Outcome Reporting Form—Air | 72 | 1 | 5/60
State/Local/Territorial public health staff | Rubella Contact Investigation Outcome Reporting Form—Air | 1 | 1 | 5/60
State/Local/Territorial public health staff | General Land Contact Investigation Outcome Reporting Form Land | 2 | 1 | 5/60

Jeffrey M. Zirger,
Lead, Information Collection Review Office, Office of Public Health Ethics and Regulations, Office of Science, Centers for Disease Control and Prevention.

[FR Doc. 2024-18376 Filed 8-15-24; 8:45 am]

BILLING CODE 4163-18-P